DEPARTMENT OF STATE

[Public Notice 8237]

Notice of Intent To Prepare a Supplemental Environmental Impact Statement (SEIS) and To Conduct Scoping and To Initiate Consultation consistent With the National Environmental Policy Act (NEPA) and Section 106 of the National Historic Preservation Act (NHPA) for the Proposed Enbridge Energy, Limited Partnership, Line 67 Capacity Expansion Project

SUMMARY: The purpose of this notice is to inform the public that the Department of State (the Department) will be preparing a Supplemental Environmental Impact Statement for the proposed Enbridge Energy, Limited Partnership, Line 67 Capacity Expansion Project. Under E.O. 13337, the Secretary of State is authorized to issue Presidential Permits for the construction, connection, operation, or maintenance at the borders of the United States, of facilities for the exportation or importation of liquid petroleum, petroleum products, or other non-gaseous fuels to or from a foreign country.

Enbridge Energy (Enbridge) has applied to the Department for an amendment to their current Presidential Permit authorizing it to operate at a higher capacity the existing crude oil pipeline (known as “Line 67”). To approve the amendment, the Department of State must find that issuance would serve the national interest. In the course of processing such applications, the Department consults extensively with concerned Federal and State agencies, and invites public comment in arriving at its determination.

The Department issued a Final Environmental Impact Statement (FEIS) on June 5, 2009, as part of its review of the initial Presidential Permit application for Line 67. On August 3, 2009, the Department issued a Presidential Permit authorizing the construction, operation and maintenance of facilities at the U.S.-Canada border for Line 67 (known at the time of permit issuance as the “Alberta Clipper” pipeline). Enbridge completed construction of Line 67 in 2010 pursuant to the original Presidential Permit issued by the Department. Line 67 is currently fully operational, transporting 450,000 to 500,000 barrels per day (bpd) of crude oil across the border from the Western Canadian Sedimentary Basin to Enbridge's terminal located in Superior, Wisconsin. From there, the material is shipped to various markets in the United States and Canada.

Enbridge is now proposing to expand the volume transported across the border in the Line 67 Pipeline in order to help address current and future demand by U.S. and Canada refineries for supplies of heavy crude oil from the Western Canadian Sedimentary Basin (WCSB) (“the Enbridge Energy, Line 67 Expansion Project”).

The Department has determined that before determining whether to authorize the proposed higher capacity operation of Line 67 at the U.S. border, it will conduct an environmental review of the Project consistent with the National Environmental Policy Act (“NEPA”). The Department will evaluate the impacts associated with operating Line 67 at its full design capacity of 880,000 bpd.

The purpose of this Notice of Intent (NOI) is to inform the public about the proposed action, announce plans for scoping opportunities, invite public participation in the scoping process, and solicit public comments for consideration in establishing the scope and content of the SEIS.

SUPPLEMENTARY INFORMATION:

Project Description

The proposed Project is an international project designed to increase transport of crude oil from Enbridge's facilities in Hardisty, Alberta to an Enbridge terminal in Superior, Wisconsin. In the United States, Line 67 extends 326.9 miles from the U.S.-Canada border near Neche, North Dakota through North Dakota, Minnesota and Wisconsin to the Superior Terminal. From there, the crude is transported by pipeline to primarily Midwestern markets and mid-central and Gulf Coast markets, as well as points in the Eastern United States and Canada. Specifically, Enbridge proposes to expand capacity of the Line 67 Pipeline to 570,000 bpd, and seeks authority to operate the U.S. border facilities at the full design capacity of 880,000 bpd in the event of further expansion in the future.

Enbridge proposes to increase the capacity up to 570,000 bpd by adding horsepower to existing pumping units inside of the current footprint of Enbridge's Viking, Clearbrook, and Deer River pump stations in Minnesota. Enbridge applied to the Minnesota Public Utilities Commission (MPUC) on October 8, 2012 to add additional horsepower to these pumping stations. Enbridge further seeks authority to increase the capacity from 570,000 bpd to the full design capacity of 880,000 bpd at a point in the future by constructing additional pumping units at Enbridge's pump stations in Minnesota. The footprint of Enbridge's pump stations will be modified as a result of such construction. Prior to constructing these additional pump units at some point in the future, Enbridge will file an additional application with the MPUC.

Enbridge is also planning to construct two new storage tanks inside of the footprint of Enbridge's Superior terminal in Wisconsin. Enbridge will apply to the U.S. Army Corps of Engineers (“Corps”) for a permit to construct the tanks as there may be wetland impacts associated with the construction and operation of the new tanks. Enbridge must also seek approval from Wisconsin Department of Natural Resources to construct the additional two tanks.

The SEIS Process

The Department, consistent with NEPA, will take into account the environmental impacts that could result from the approval of a Presidential Permit authorizing construction, operation, and maintenance of pipeline facilities for the transport of crude oil located at the international border of the United States and Canada. The Department will use the SEIS to assess the environmental impacts that could result if Enbridge Energy, Limited Partnership is granted a Presidential permit to operate the U.S. border facilities at the higher capacities anticipated with the proposed Line 67 Capacity Expansion Project. The SEIS will supplement the FEIS of June 5, 2009, by including information and analysis about potential impacts associated with the proposed increased volume of crude oil, as well as any other subjects that may need to be updated because there exist significant new circumstances or information relevant to environmental concerns bearing on the proposed action or its impacts. The Department has selected ICF International as a Third-Party Contractor to help prepare the SEIS. The SEIS will be prepared under the direction of the Department and will be reviewed by the cooperating agencies.

In the SEIS, the Department will discuss impacts that could occur as a result of the construction and operation of the revised proposed project under these general headings:

• Geology and soils;

• Water resources;

• Fish, wildlife, and vegetation;

• Threatened and endangered species;

• Cultural resources;

• Land use, recreation and special interest areas;

• Visual resources;

• Air quality and noise;

• Socioeconomics;

• Environmental Justice; and,

• Reliability and safety.

In the SEIS, the Department will also evaluate reasonable alternatives, including a “no action alternative,” to the proposed project or portions of the project and make recommendations on how to lessen or avoid impacts on affected resources.

The Department's independent analysis of the issues will be included in a draft SEIS. The draft SEIS will be published and mailed to relevant Federal, State, and local government agencies, elected officials, environmental and public interest groups, Indian tribes, affected landowners, commenters, local libraries, newspapers, and other interested parties. You are encouraged to become involved in this process and provide your specific comments or concerns about the proposed project. By becoming a commenter, your concerns will be considered by the Department and addressed appropriately in the SEIS.

The Department will consider all timely comments on the draft SEIS and revise the document, as necessary, before issuing a final SEIS.

Issued in Washington, DC on March 11, 2013:

DATES: The Department invites interested agencies, organizations, and members of the public to submit comments or suggestions to assist in identifying significant environmental issues, measures that might be adopted to reduce environmental impacts, and in determining the appropriate scope of the SEIS. The public scoping period starts with the publication of this Notice in the Federal Register on March 14, 2013 and will continue until April 29, 2013. Written, electronic, and oral comments will be given equal weight and State will consider all comments received or postmarked by, April 29, 2013 in defining the scope of the SEIS. Comments received or postmarked after that date may be considered to the extent practicable.

Public scoping opportunities are designed to provide opportunities to offer comments on the proposed project. Interested individuals and groups are encouraged to present comments on the environmental issues they believe should be addressed in the SEIS consistent with NEPA and its implementing regulations.

During this public scoping period, the Department also plans to use the scoping process to help identify consulting parties and historic preservation issues for consideration consistent with Section 106 of the NHPA and its implementing regulations (36 CFR Part 800).

ADDRESSES: Written comments or suggestions on the scope of the SEIS should be addressed to: Genevieve Walker, OES/EQT Room 2726, U.S. Department of State, Washington, DC 20520. Comments may be submitted electronically to EnbridgeLine67permit@state.gov. Public comments may be posted on the Web site identified below.

FOR FURTHER INFORMATION CONTACT: For information on the proposed project or to receive a copy of the draft SEIS when it is issued, contact Genevieve Walker at the address listed in the ADDRESSES section of this notice by electronic or regular mail as listed above, or by telephone (202) 647-9798 or by fax at (202) 647-5947.

Project details and environmental information on the Enbridge Energy, Limited Partnership application for a Presidential Permit, as well as the Presidential Permit process, are downloadable from the following Web site: http://www.state.gov/e/enr/applicant/applicants/index.htm.

Dated: March 11, 2013.
George N. Sibley,
Director, Office of Environmental Quality and Transboundary Issues, Department of State.

[FR Doc. 2013-06039 Filed 3-14-13; 8:45 am]

BILLING CODE 4710-09-P